DEPARTMENT OF COMMERCE

International Trade Administration

[A-122-857]

Certain Softwood Lumber Products From Canada: Notice of Final Results of Antidumping Duty Changed Circumstances Review

AGENCY: Enforcement and Compliance, International Trade Administration, Department of Commerce.

SUMMARY: On July 12, 2021, the Department of Commerce (Commerce) published the initiation and preliminary results of a changed circumstances review (CCR) of the antidumping duty (AD) order on certain softwood lumber products from Canada. For these final results, Commerce continues to find that CHAP Alliance, Inc. (CHAP) is the successor-in-interest to L'Atelier de Réadaptation au Travail de Beauce Inc. (L'Atelier) in the context of the AD order on certain softwood lumber products from Canada.

DATES: Applicable August 26, 2021.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On May 5, 2021, CHAP requested ¹ that, pursuant to section 751(b) of the Tariff Act of 1930, as amended (the Act) and 19 CFR 351.216, Commerce conduct an expedited CCR of the AD order on certain softwood lumber products from Canada ² to confirm that CHAP is the successor-in-interest to L'Atelier, and accordingly to assign it the cash deposit rate of L'Atelier.³ In its submission, CHAP states that while L'Atelier undertook its name, the company is otherwise primarily unchanged.⁴ On June 8, 2021, Commerce informed CHAP that it required additional information in order to determine whether to initiate the requested CCR.⁵ On June 24, 2021, CHAP provided the requested information.⁶

¹ See CHAP's Letter, “Certain Softwood Lumber from Canada: L'Atelier de Réadaptation au Travail de Beauce Inc. Request for Changed Circumstances Reviews,” dated May 5, 2021 (CCR Request).

² See Certain Softwood Lumber Products from Canada: Antidumping Duty Order and Partial Amended Final Determination, 83 FR 350 (January 3, 2018) (Order).

³ See CCR Request at 1-2.

⁴ Id. at 2-6.

⁵ See Commerce's Letter, “Changed Circumstances Review of Certain Softwood Lumber Products from Canada: Supplemental Questionnaire,” dated June 8, 2021.

⁶ See CHAP's Letter, “Certain Softwood Lumber from Canada: Supplemental Questionnaire Response,” dated June 24, 2021.

On July 6, 2021, Commerce initiated a CCR and preliminarily determined that CHAP is the successor-in-interest to L'Atelier.⁷ In the Initiation and Preliminary Results CCR, Commerce provided all interested parties with an opportunity to comment.⁸ However, we received no comments.

⁷ See Initiation and Preliminary Results of Changed Circumstances Review: Certain Softwood Lumber Products from Canada, 86 FR 36525 (July 12, 2021) (Initiation and Preliminary Results CCR), and accompanying Preliminary Decision Memorandum.

⁸ See Initiation and Preliminary Results CCR, 86 FR at 36526.

Scope of the Order

The merchandise covered by the Order is softwood lumber, siding, flooring and certain other coniferous wood (softwood lumber products). Softwood lumber product imports are generally entered under Chapter 44 of the Harmonized Tariff Schedule of the United States (HTSUS). Although the HTSUS subheadings are provided for convenience and customs purposes, the written description of the scope of the Order is dispositive.⁹

⁹ For a complete description of the scope of the Order, see Initiation and Preliminary Results CCR Preliminary Decision Memorandum (no changes in these final results).

Final Results of Changed Circumstances Review

For the reasons stated in the Initiation and Preliminary Results CCR, Commerce continues to find that CHAP is the successor-in-interest to L'Atelier. As a result of this determination and consistent with established practice, we find that CHAP should receive the cash deposit rates previously assigned to L'Atelier. Consequently, Commerce will instruct U.S. Customs and Border Protection to suspend liquidation of all shipments of subject merchandise produced or exported by L'Atelier and entered, or withdrawn from warehouse, for consumption on or after the publication date of this notice in the Federal Register at the cash deposit rate in effect for L'Atelier. This cash deposit requirement shall remain in effect until further notice.

Notification to Interested Parties

We are issuing this determination and publishing these final results and notice in accordance with sections 751(b)(1) and 777(i)(1) and (2) of the Act, and 19 CFR 351.216(e), 351.221(b), and 351.221(c)(3).

Dated: August 20, 2021.
Ryan Majerus,
Deputy Assistant Secretary for Policy and Negotiations.

[FR Doc. 2021-18369 Filed 8-25-21; 8:45 am]

BILLING CODE 3510-DS-P